DEPARTMENT OF ENERGY

Federal Energy Regulatory Commission

Combined Notice of Filings

Take notice that the Commission has received the following Natural Gas Pipeline Rate and Refund Report filings:

Filings Instituting Proceedings

Docket Numbers: RP16-1092-000.

Applicants: Midcontinent Express Pipeline LLC.

Description: § 4(d) Rate Filing: SandRidge Negotiated Rate to be effective 6/7/2016.

Filed Date: 7/14/16.

Accession Number: 20160714-5052.

Comments Due: 5 p.m. ET 7/26/16.

Docket Numbers: RP16-1093-000.

Applicants: Texas Gas Transmission, LLC.

Description: Compliance filing Compliance Filing in CP15-105 (Western Ky Customer Lateral) to be effective 8/15/2016.

Filed Date: 7/15/16.

Accession Number: 20160715-5038.

Comments Due: 5 p.m. ET 7/27/16.

Docket Numbers: RP16-1094-000.

Applicants: Texas Gas Transmission, LLC.

Description: Compliance filing Compliance Filing in CP15-105-000 to Submit Neg Rate Agmts to be effective 9/1/2016.

Filed Date: 7/15/16.

Accession Number: 20160715-5039.

Comments Due: 5 p.m. ET 7/27/16.

Docket Numbers: RP16-1095-000.

Applicants: DBM Pipeline, LLC.

Description: § 4(d) Rate Filing: DBM Negotiated Rate Filing to be effective 7/15/2016.

Filed Date: 7/15/16.

Accession Number: 20160715-5105.

Comments Due: 5 p.m. ET 7/27/16.

Docket Numbers: RP16-1096-000.

Applicants: Rockies Express Pipeline LLC.

Description: § 4(d) Rate Filing: Neg Rate 2016-07-15 CP to be effective 7/15/2016.

Filed Date: 7/15/16.

Accession Number: 20160715-5137.

Comments Due: 5 p.m. ET 7/27/16.

The filings are accessible in the Commission's eLibrary system by clicking on the links or querying the docket number.

Any person desiring to intervene or protest in any of the above proceedings must file in accordance with Rules 211 and 214 of the Commission's Regulations (18 CFR 385.211 and § 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: July 18, 2016.
Nathaniel J. Davis, Sr.,
Deputy Secretary.

[FR Doc. 2016-17529 Filed 7-25-16; 8:45 am]

BILLING CODE 6717-01-P